DEPARTMENT OF STATE

[Public Notice: 9656]

U.S. Department of State Advisory Committee on Private International Law (ACPIL): Public Meeting on Conciliated Settlement Agreements

The Office of the Assistant Legal Adviser for Private International Law, Department of State, gives notice of a public meeting to discuss ongoing work in the United Nations Commission on International Trade Law (UNCITRAL) on the topic of the enforcement of conciliated settlement agreements. The public meeting will take place on Wednesday, August 24, 2016 from 10:00 a.m. until 1:00 p.m. EDT. This is not a meeting of the full Advisory Committee.

In 2014, the United States proposed that UNCITRAL develop a convention on the enforcement of conciliated settlement agreements that resolve international commercial disputes. See A/CN.9/822, available at http://www.uncitral.org/uncitral/commission/sessions/47th.html. In 2015, UNCITRAL decided that its Working Group II should begin work on the topic. The Working Group discussed the topic at its September 2015 and February 2016 sessions, and will do so again at its September 2016 session. Documents for Working Group II are available at http://www.uncitral.org/uncitral/en/commission/working_groups/2Arbitration.html.

The purpose of the public meeting is to obtain the views of concerned stakeholders on the instrument being developed by UNCITRAL. Those who cannot attend but wish to comment are welcome to do so by email to Tim Schnabel at SchnabelTR@state.gov.

Time and Place: The meeting will take place from 10:00 a.m. until 1:00 p.m. at 2430 E Street NW (South Building, SA-4A), Room 240, Washington, DC. Participants should arrive at the Navy Hill/Potomac Annex gate at 23rd and D Streets NW before 9:40 a.m. for visitor screening, and will be escorted to the South Building. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than August 17, 2016. Requests made after that date will be considered, but might not be able to be fulfilled. If you would like to participate by telephone, please email pil@state.gov to obtain the call-in number and other information. We ask that each person who intends to participate by telephone notify us directly so that we may ensure that we have adequate dial-in capacity.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://foia.state.gov/_docs/SORN/State-36.pdf for additional information.

Dated: July 20, 2016.
Timothy R. Schnabel,
Attorney-Adviser, Office of Private International Law, Office of Legal Adviser, Department of State.

[FR Doc. 2016-18125 Filed 7-29-16; 8:45 am]

BILLING CODE 4710-08-P